DEPARTMENT OF ENERGY

Federal Energy Regulatory Commission

Combined Notice of Filings #1

Take notice that the Commission received the following electric corporate filings:

Docket Numbers: EC16-115-000.

Applicants: Antelope Big Sky Ranch LLC.

Description: Application for Authorization Under Section 203 of the Federal Power Act for the Disposition of Jurisdictional Facilities, Request for Expedited Consideration and Confidential Treatment of Antelope Big Sky Ranch LLC.

Filed Date: 5/6/16.

Accession Number: 20160506-5104.

Comments Due: 5 p.m. ET 5/27/16.

Take notice that the Commission received the following electric rate filings:

Docket Numbers: ER10-2721-006.

Applicants: El Paso Electric Company.

Description: Supplement to December 31, 2015 Updated Market Power Analysis of El Paso Electric Company.

Filed Date: 5/5/16.

Accession Number: 20160505-5283.

Comments Due: 5 p.m. ET 5/26/16.

Docket Numbers: ER11-4625-002; ER13-2169-001; ER13-1504-002; ER11-3634-002; ER10-2867-002; ER10-2866-001; ER10-2862-002; ER10-2861-001.

Applicants: Colton Power L.P., Goal Line L.P., SWG Arapahoe, LLC, KES Kingsburg, L.P., Valencia Power, LLC, SWG Colorado, LLC, Harbor Cogeneration Co., Fountain Valley Power, LLC.

Description: Amendment to March 17, 2016 Notice of Change in Status of the Southwest Generation Operating Company, LLC public utility subsidiaries, et al.

Filed Date: 5/4/16.

Accession Number: 20160504-5219.

Comments Due: 5 p.m. ET 5/25/16.

Docket Numbers: ER12-1587-002.

Applicants: Northeastern Power Company.

Description: Compliance filing: Informational Filing Regarding Planned Transfer to be effective N/A.

Filed Date: 5/5/16.

Accession Number: 20160505-5216.

Comments Due: 5 p.m. ET 5/26/16.

Docket Numbers: ER14-1218-001.

Applicants: Armstrong Power, LLC.

Description: Compliance filing: Informational Filing Regarding Planned Transfer to be effective N/A.

Filed Date: 5/5/16.

Accession Number: 20160505-5217.

Comments Due: 5 p.m. ET 5/26/16.

Docket Numbers: ER16-1051-000; ER16-1051-001.

Applicants: Graphic Packaging International Inc.

Description: Supplement to March 1, 2016 and April 28, 2016 Graphic Packaging International Inc. tariff filing.

Filed Date: 5/5/16.

Accession Number: 20160505-5278.

Comments Due: 5 p.m. ET 5/26/16.

Docket Numbers: ER16-1454-001.

Applicants: Southern California Edison Company.

Description: Tariff Amendment: Resubmit Amended DSA w/SCE's Power Production Department to be effective 1/1/2016.

Filed Date: 5/5/16.

Accession Number: 20160505-5162.

Comments Due: 5 p.m. ET 5/26/16.

Docket Numbers: ER16-1628-000.

Applicants: Monongahela Power Company, Trans-Allegheny Interstate Line Company, The Potomac Edison Company, American Transmission Systems, Incorporation, PJM Interconnection, L.L.C.

Description: § 205(d) Rate Filing: ATSI et al submits Service Agreement Nos. 4090, 4441, 4442, 4443 to be effective 7/4/2016.

Filed Date: 5/5/16.

Accession Number: 20160505-5205.

Comments Due: 5 p.m. ET 5/26/16.

Docket Numbers: ER16-1629-000.

Applicants: Arizona Public Service Company.

Description: § 205(d) Rate Filing: Service Agreement No. 209—Four Corners Acquisition to be effective 7/6/2016.

Filed Date: 5/5/16.

Accession Number: 20160505-5225.

Comments Due: 5 p.m. ET 5/26/16.

Docket Numbers: ER16-1630-000.

Applicants: Arizona Public Service Company.

Description: § 205(d) Rate Filing: Rate Schedule Nos. 44, 98, 211—Four Corners Acquisition to be effective 7/6/2016.

Filed Date: 5/5/16.

Accession Number: 20160505-5226.

Comments Due: 5 p.m. ET 5/26/16.

Docket Numbers: ER16-1631-000.

Applicants: Armstrong Power, LLC, Calumet Energy Team, LLC, Northeastern Power Company, Pleasants Energy, LLC, Troy Energy, LLC.

Description: Joint Request for Waiver of Armstrong Power, LLC, et. al.

Filed Date: 5/4/16.

Accession Number: 20160504-5223.

Comments Due: 5 p.m. ET 5/25/16.

Docket Numbers: ER16-1632-000.

Applicants: Calumet Energy Team, LLC.

Description: Compliance filing: Informational Filing Regarding Planned Transfer to be effective N/A.

Filed Date: 5/6/16.

Accession Number: 20160506-5091.

Comments Due: 5 p.m. ET 5/27/16.

Docket Numbers: ER16-1633-000.

Applicants: Pleasants Energy, LLC.

Description: Compliance filing: Informational Filing Regarding Planned Transfer to be effective N/A.

Filed Date: 5/6/16.

Accession Number: 20160506-5093.

Comments Due: 5 p.m. ET 5/27/16.

Docket Numbers: ER16-1634-000.

Applicants: Troy Energy, LLC.

Description: Compliance filing: Informational Filing Regarding Planned Transfer to be effective N/A.

Filed Date: 5/6/16.

Accession Number: 20160506-5094.

Comments Due: 5 p.m. ET 5/27/16.

Docket Numbers: ER16-1635-000.

Applicants: Arizona Public Service Company.

Description: § 205(d) Rate Filing: Rate Schedule No. 281 to be effective 7/6/2016.

Filed Date: 5/6/16.

Accession Number: 20160506-5101.

Comments Due: 5 p.m. ET 5/27/16.

Docket Numbers: ER16-1636-000.

Applicants: Southern California Edison Company.

Description: § 205(d) Rate Filing: Ekdorado-Moenkopi 500kV Transmission Line IA with APS to be effective 7/7/2016.

Filed Date: 5/6/16.

Accession Number: 20160506-5124.

Comments Due: 5 p.m. ET 5/27/16.

Docket Numbers: ER16-1637-000.

Applicants: UIL Distributed Resources, LLC.

Description: Baseline eTariff Filing: Application for MBR Authority & Request for Related Waivers & Blanket Approval to be effective 5/7/2016.

Filed Date: 5/6/16.

Accession Number: 20160506-5174.

Comments Due: 5 p.m. ET 5/27/16.

Docket Numbers: ER16-1638-000.

Applicants: 4C Acquisition, LLC.

Description: Baseline eTariff Filing: Baseline FERC Electric Tariff to be effective 7/6/2016.

Filed Date: 5/6/16.

Accession Number: 20160506-5181.

Comments Due: 5 p.m. ET 5/27/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 6, 2016.
Nathaniel J. Davis, Sr.,
Deputy Secretary.

[FR Doc. 2016-11190 Filed 5-11-16; 8:45 am]

BILLING CODE 6717-01-P